DEPARTMENT OF STATE

[Public Notice: 9593]

In the Matter of the Designation of Tariq Gidar Group, aka TGG, aka Tehrik-e-Taliban (TTP)-Tariq Gidar Group, aka Tehreek-i-Taliban Pakistan (TTP) Geedar Group, aka Tariq Geedar Group, aka Commander Tariq Afridi Group, aka Tariq Afridi Group, aka Tariq Gidar Afridi Group, aka The Asian Tigers as a Specially Designated Global Terrorist

Acting under the authority of and in accordance with sec. 1(b) of Executive Order 13224 of September 23, 2001, as amended by Executive Order 13268 of July 2, 2002, and Executive Order 13284 of January 23, 2003, I hereby determine that the individual known as Tariq Gidar Group, also known as TGG, also known as Tehrik-e-Taliban (TTP)-Tariq Gidar Group, also known as Tehreek-i-Taliban Pakistan (TTP) Geedar Group, also known as Tariq Geedar Group, also known as Commander Tariq Afridi Group, also known as Tariq Afridi Group, also known as Tariq Gidar Afridi Group, also known as The Asian Tigers committed, or poses a significant risk of committing, acts of terrorism that threaten the security of U.S. nationals or the national security, foreign policy, or economy of the United States.

Consistent with the determination in sec. 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: May 10, 2016.
John F. Kerry,
Secretary of State.

[FR Doc. 2016-12985 Filed 6-1-16; 8:45 am]

BILLING CODE 4710-AD-P